DEPARTMENT OF THE INTERIOR

Bureau of Land Management

[LLNVL02000.L14300000.ET0000; N-56170; 13-08807; MO#4500051113]

Notice of Proposed Withdrawal Extension, Sacramento Pass Recreation Area; Nevada

AGENCY: Bureau of Land Management, Interior.

ACTION: Notice.

SUMMARY: The Assistant Secretary of the Interior for Policy, Management and Budget proposes to extend the duration of Public Land Order (PLO) No. 7060 for an additional 20-year term. PLO No. 7060 withdrew 464.93 acres of public land from settlement, sale, location, or entry under the general land laws, including the United States mining laws, but not from leasing under the mineral leasing laws, to protect the Sacramento Pass Recreation Area (SPRA) in White Pine County, Nevada. This notice gives the public an opportunity to comment on the proposed extension and to request a public meeting.

DATES: For a period of 90 days from the date of publication of this notice, all persons who wish to submit comments, suggestions, objections, or request a public meeting in connection with the proposed withdrawal extension may do so in writing until January 27, 2014.

ADDRESSES: Comments and meeting requests should be sent to the District Manager, Bureau of Land Management (BLM), Ely District Office, HC33 Box 33500, 702 North Industrial Way, Ely, Nevada 89301.

FOR FURTHER INFORMATION CONTACT: Elena Montenegro-Long, BLM, Schell Field Office at 775-289-1800, or email emontenegro@blm.gov. Persons who use a telecommunications device for the deaf (TDD) may call the Federal Information Relay Service (FIRS) at 1-800-877-8339 to reach the BLM. The FIRS is available 24 hours a day, 7 days a week, to leave a message or question with the above individual. You will receive a reply during normal business hours.

SUPPLEMENTARY INFORMATION: The BLM has filed an application to extend the withdrawal established by PLO No. 7060 (59 FR 28790 (1994)), for an additional 20-year term. PLO No. 7060 will expire on June 2, 2014, unless extended. PLO No. 7060 is incorporated herein by reference. The land withdrawn by PLO No. 7060 is located about 50 miles east of Ely, Nevada, along State Highway 50. The purpose of the withdrawal extension is to continue to protect a developed campground consisting of picnic facilities, camping areas, vaulted toilets, walking trails, and trailhead access for dispersed recreation opportunities such as hiking, horseback riding, and low-impact camping.

The use of a right-of-way, interagency agreement, or cooperative agreement would not provide adequate protection for the capital improvement investment that the BLM has made in the SPRA.

No additional water rights would be needed to fulfill the purpose of the requested withdrawal extension.

There are no suitable alternative sites since the land described contains the developed campground and improvements of interest for protection.

All persons who wish to submit comments, suggestions, or objections in connection with the proposed withdrawal extension may present their views in writing to the BLM Ely District Office at the address in the ADDRESSES section. Comments, including names and street addresses of respondents, will be available for public review at the BLM Ely District Office, during regular business hours, 7:30 a.m. to 4:30 p.m. Monday through Friday, except Federal holidays.

Before including your address, phone number, email address, or other personal identifying information in your comment, you should be aware that your entire comment—including your personal identifying information—may be made publicly available at any time. While you can ask us in your comment to withhold your personal identifying information from public review, we cannot guarantee that we will be able to do so.

Notice is hereby given that an opportunity for a public meeting is afforded in connection with the proposed withdrawal extension. All interested persons who desire a public meeting for the purpose of being heard on the proposed withdrawal extension must submit a written request to the District Manager, BLM Ely District Office at the address in the ADDRESSES section, within 90 days from the date of publication of this notice. If the authorized officer determines that public meeting will be held, a notice of the date, time, and place will be published in the Federal Register and local newspapers and also posted on the BLM Web site at: http://www.blm.gov/nv/st/en/fo/ely_field_office.html at least 30 days before the scheduled date of the meeting.

The application will be processed in accordance with the regulations set forth in 43 CFR 2310.4.

Marci L. Todd,
Nevada Associate State Director.

[FR Doc. 2013-25374 Filed 10-28-13; 8:45 am]

BILLING CODE 4310-HC-P